DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 19, 2005.

Interested persons are invited to submit written comments regarding the subject matter of the investigations to the Director, Division of Trade Adjustment Assistance, at the address shown below, not later than August 19, 2005.

The petitions filed in this case are available for inspection at the Office of the Director, Division of Trade Adjustment Assistance, Employment and Training Administration, U.S. Department of Labor, Room C-5311, 200 Constitution Avenue, NW., Washington, DC 20210.

Signed in Washington, DC this 1st day of August, 2005.
Timothy Sullivan,
Director, Division of Trade Adjustment Assistance.

Appendix
Petitions instituted between 06/27/2005 and 07/01/2005
TA-W | Subject firm (petitioners) | Location | Date of institution | Date of petition
57,451 | Granite Knitwear Inc. (Comp) | Granite Quarry, NC | 06/27/2005 | 06/22/2005
57,452 | Zorli Manufacturing LLC (Wkrs) | Union Point, GA | 06/27/2005 | 06/14/2005
57,453 | Federal Screw Works (UAW) | Chelsea, MI | 06/27/2005 | 06/15/2005
57,454 | Glenayre Electronics (State) | Duluth, GA | 06/27/2005 | 06/16/2005
57,455 | Brand Mills (UNITE) | Hackensack, NJ | 06/27/2005 | 06/10/2005
57,456 | Beach Patrol, Inc. (State) | Carson, CA | 06/27/2005 | 06/13/2005
57,457 | TRW Automotive (Comp) | Cookeville, TN | 06/28/2005 | 06/27/2005
57,458 | Northern Technologies, Inc. (Comp) | Liberty Lake, WA | 06/28/2005 | 06/28/2005
57,459 | Cardinal Brands (Wkrs) | Washington, MO | 06/28/2005 | 06/23/2005
57,460 | Alandale Knitting Co., Inc. (Comp) | Troy, NC | 06/28/2005 | 06/22/2005
57,461 | Elkin Printing Inc. (Comp) | Ronda, NC | 06/28/2005 | 06/01/2005
57,462 | Kennametal Inc. (Comp) | Latrobe, PA | 06/28/2005 | 06/24/2005
57,463 | Union Underwear Company, Inc. (Wkrs) | Jamestown, KY | 06/28/2005 | 06/17/2005
57,464 | Delta Galil USA, Inc. (Comp) | Williamsport, PA | 06/29/2005 | 06/28/2005
57,465 | Premier Refracteries (Comp) | Snow Shoe, PA | 06/29/2005 | 06/22/2005
57,466 | Varco—Pruder Buildings (Wkrs) | Pine Bluff, AR | 06/29/2005 | 06/24/2005
57,467 | Texas Instruments (State) | Tucson, AZ | 06/29/2005 | 06/24/2005
57,468 | Milwaukee Electric Tool Corp. (State) | Brookfield, WI | 06/29/2005 | 06/24/2005
57,469A | NABCO, Inc. (Comp) | Marion, MI | 06/29/2005 | 06/27/2005
57,469 | NABCO, Inc. (Comp) | Kaleva, MI | 06/29/2005 | 06/27/2005
57,470 | Wilson Sporting Goods Co. (Comp) | Humboldt, TN | 06/29/2005 | 06/27/2005
57,471 | Rohm and Haas Powder Coatings (Wkrs) | Wytheville, VA | 06/29/2005 | 06/27/2005
57,472 | Kustom Fit (State) | South Gate, CA | 06/29/2005 | 06/28/2005
57,473 | Laneko (Comp) | Royersford, PA | 06/29/2005 | 06/23/2005
57,474 | Lund Boat Company (Comp) | New York Mills, MN | 06/29/2005 | 06/28/2005
57,475 | Onux Medical, Inc. (Comp) | Hampton, NH | 06/29/2005 | 06/27/2005
57,476 | Menasha Packaging Company (Comp) | Otsego, MI | 06/29/2005 | 06/28/2005
57,477 | Mount Vernon Mills, Inc. (Comp) | McCormick, SC | 06/29/2005 | 06/28/2005
57,478 | Thomasville Furniture Ind., Inc. (Comp) | Thomasville, NC | 06/29/2005 | 06/28/2005
57,479 | Robert Bosch Tool Corp. (Comp) | Estanollee, GA | 06/29/2005 | 06/24/2005
57,480 | Vishay Micro-Measurements (Comp) | Wendell, NC | 06/29/2005 | 06/29/2005
57,481 | Crown City Plating Co. (Wkrs) | El Monte, CA | 06/29/2005 | 06/15/2005
57,482 | Industrial Distribution Group (Comp) | West Jefferson, NC | 06/30/2005 | 06/27/2005
57,483 | Bronze Craft Corp. (Comp) | Nashua, NH | 06/30/2005 | 06/12/2005
57,484 | Oce Display Graphics Systems, Inc. (Comp) | San Jose, CA | 06/30/2005 | 06/27/2005
57,485 | Proman Mfg. Co. (Wkrs) | Boston, MA | 06/30/2005 | 06/24/2005
57,486 | Homecrest Industries (State) | Wadena, MN | 06/30/2005 | 06/29/2005
57,487 | Continental Tire North America (Comp) | Charlotte, NC | 06/30/2005 | 06/23/2005
57,488 | Plastic Oddities, Inc. (Wkrs) | Shelby, NC | 06/30/2005 | 06/18/2005
57,489 | APAC Customer Services (NPW) | Canton, IL | 06/30/2005 | 06/21/2005
57,490 | Teleflex Incorporated (Wkrs) | Van Wert, OH | 06/30/2005 | 06/20/2005
57,491 | Iberia Sugar Cooperative, Inc. (Comp) | New Iberia, LA | 06/30/2005 | 06/20/2005
57,492 | Gilmour Mfg. Co. (Comp) | Somerset, PA | 07/01/2005 | 07/01/2005
57,493 | Qualex (Wkrs) | Durham, NC | 07/01/2005 | 06/26/2005
57,494 | Toter, Inc. (Comp) | Sanger, CA | 07/01/2005 | 06/14/2005
57,495 | VMC—Volt (Wkrs) | Portland, OR | 07/01/2005 | 06/29/2005
57,496 | Hermitage Hospital Products (State) | Niantic, CT | 07/01/2005 | 06/30/2005
57,497 | FUN-TEES, Inc. (Comp) | Concord, NC | 07/01/2005 | 06/29/2005
57,498 | Custom Machine Works (State) | Fayetteville, AR | 07/01/2005 | 07/01/2005
57,499 | National Spinning Co., LLC (Comp) | Warsaw, NC | 07/01/2005 | 06/30/2005
57,500 | Amital Spinning Corp. (Comp) | Wallace, NC | 07/01/2005 | 07/01/2005
57,501 | Unifi, Inc. (Comp) | Reidsville, NC | 07/01/2005 | 07/01/2005

[FR Doc. E5-4300 Filed 8-8-05; 8:45 am]

BILLING CODE 4510-30-P